DEPARTMENT OF THE TREASURY

Internal Revenue Service

Open Meeting of the Taxpayer Advocacy Panel Special Projects Committee; Correction

AGENCY: Internal Revenue Service (IRS), Treasury.

ACTION: Notice of meeting; correction.

SUMMARY: In the Federal Register notice that was originally published on August 9, 2018, (Volume 83, Number 154, Page 39511) the meeting date has been corrected. The date of the meeting is: Wednesday, September 12, 2018 and Wednesday, September 19, 2018.

DATES: The meeting will be held Wednesday, September 19, 2018.

FOR FURTHER INFORMATION CONTACT: Matthew O'Sullivan at 1-888-912-1227 or (510) 907-5274.

SUPPLEMENTARY INFORMATION: Notice is hereby given pursuant to Section 10(a)(2) of the Federal Advisory Committee Act, 5 U.S.C. App. (1988) that a meeting of the Taxpayer Advocacy Panel Special Projects Committee will be held Wednesday, September 19, 2018, at 2:00 p.m. Eastern Time via teleconference. The public is invited to make oral comments or submit written statements for consideration. Due to limited conference lines, notification of intent to participate must be made with Matthew O'Sullivan. For more information please contact Matthew O'Sullivan at 1-888-912-1227 or (510) 907-5274, or write TAP Office, 1301 Clay Street, Oakland, CA 94612-5217 or contact us at the website: http://www.improveirs.org. The agenda will include various IRS issues.

The agenda will include a discussion on various special topics with IRS processes.

Dated: August 15, 2018.
Antoinette Ross,
Acting Director, Taxpayer Advocacy Panel.

[FR Doc. 2018-18134 Filed 8-21-18; 8:45 am]

BILLING CODE 4830-01-P